DEPARTMENT OF THE INTERIOR

Bureau of land management

[MT-LLB05000-LL14300000-FQ0000; MTM 40412]

Public Land Order No. 7792; Partial Revocation, Power Site Reserve No. 109; Montana

AGENCY: Bureau of Land Management, Interior.

ACTION: Public land order.

SUMMARY: This order partially revokes a withdrawal created by an Executive Order insofar as it affects 40 acres of public land withdrawn for protection of water power values by Power Site Reserve No. 109. This order also opens the land to exchange.

DATES: Effective Date: August 2, 2012.

FOR FURTHER INFORMATION CONTACT: Jeff Daugherty, Bureau of Land Management, Dillon Field Office, 1005 Selway Drive, Dillon, Montana 59725-9431, 406-683-8045, jdaugher@blm.gov or Sandra Ward, Bureau of Land Management, Montana State Office, 5001 Southgate Drive, Billings, Montana 59101-4669, 406-683-8038, sward@blm.gov. Persons who use a telecommunications device for the deaf (TDD) may call the Federal Information Relay Service (FIRS) at 1-800-877-8339 to contact either of the above individuals. The FIRS is available 24 hours a day, 7 days a week, to leave a message or question with either of the above individuals. You will receive a reply during normal business hours.

SUPPLEMENTARY INFORMATION: The Bureau of Land Management has determined that a portion of the withdrawal created by the Executive Order dated July 2, 1910, which established Power Site Reserve No. 109, is no longer needed for the purpose for which the land was withdrawn and partial revocation is needed to facilitate a pending land exchange. The Federal Energy Regulatory Commission has no objections to the partial revocation.

Order

By virtue of the authority vested in the Secretary of the Interior by Section 204 of the Federal Land Policy and Management Act of 1976, 43 U.S.C. 1714, it is ordered as follows:

1. The withdrawal created by the Executive Order dated July 2, 1910, which established Power Site Reserve No. 109, is hereby revoked insofar as it affects the following described land:

Principal Meridian, Montana

T. 14 S., R. 3 W.,

Sec. 5, NE¼; SW¼.

The area described contains 40 acres in Beaverhead County.

2. The State of Montana has been notified of their 90-day preference right for public highway rights-of-way or material sites. Any location, entry, selection, or subsequent patent shall be subject to any rights granted to the State as provided by Section 24 of the Act of June 10, 1920, as amended, 16 U.S.C. 818.

3. At 9 a.m. on August 2, 2012 the land described in Paragraph 1 is hereby opened to exchange pursuant to Section 206 of the Federal Land Policy and Management Act of 1976, subject to valid existing rights, the provisions of existing withdrawals, other segregations of record, and the requirements of applicable law.

Authority: 43 CFR 2091.6.

Dated: July 18, 2012.
Rhea S. Suh,
Assistant Secretary—Policy, Management and Budget.

[FR Doc. 2012-18888 Filed 8-1-12; 8:45 am]

BILLING CODE 4310-DN-P